DEPARTMENT OF TRANSPORTATION

Federal Aviation Administration

14 CFR Part 39

[Docket No. FAA-2022-0879; Project Identifier MCAI-2022-00039-T; Amendment 39-22192; AD 2022-20-08]

RIN 2120-AA64

Airworthiness Directives; Airbus SAS Airplanes

AGENCY: Federal Aviation Administration (FAA), DOT.

ACTION: Final rule.

SUMMARY: The FAA is adopting a new airworthiness directive (AD) for all Airbus SAS Model A300 B2K-3C, B2-203, B4-2C, and B4-203 airplanes. This AD was prompted by reports of cracking of the flight compartment aft window frame and adjacent fuselage skin. This AD requires require a one-time check for previously accomplished repairs of the window pane and adjacent fuselage panel, and applicable corrective actions, as specified in a European Union Aviation Safety Agency (EASA) AD, which is incorporated by reference. The FAA is issuing this AD to address the unsafe condition on these products.

DATES: This AD is effective November 25, 2022.

The Director of the Federal Register approved the incorporation by reference of a certain publication listed in this AD as of November 25, 2022.

ADDRESSES:

AD Docket: You may examine the AD docket at regulations.gov under Docket No. FAA-2022-0879; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference (IBR) in this AD, contact EASA, Konrad-Adenauer-Ufer 3, 50668 Cologne, Germany; telephone +49 221 8999 000; email ADs@easa.europa.eu; website easa.europa.eu. You may find this IBR material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2022-0879. It is also available at regulations.gov under Docket No. FAA-2022-0879.

FOR FURTHER INFORMATION CONTACT: Dan Rodina, Aerospace Engineer, Large Aircraft Section, FAA, International Validation Branch, 2200 South 216th St., Des Moines, WA 98198; telephone 206-231-3225; email dan.rodina@faa.gov.

SUPPLEMENTARY INFORMATION:

Background

The FAA issued a notice of proposed rulemaking (NPRM) to amend 14 CFR part 39 by adding an AD that would apply to all Airbus SAS Model A300 B2K-3C, B2-203, B4-2C, and B4-203 airplanes. The NPRM published in the Federal Register on July 19, 2022 (87 FR 42970). The NPRM was prompted by EASA AD 2022-0004, dated January 11, 2022 (EASA AD 2022-0004), issued by EASA, which is the Technical Agent for the Member States of the European Union. The MCAI terminates the inspections of the rear lower corner of the flight compartment aft window at fuselage station (STA) 972/frame (FR) 10, as required by paragraphs (a)(8), (d), and (e) of FAA AD 2000-10-01, Amendment 39-11725 (65 FR 33441, May 24, 2000), which corresponds to EASA AD 2022-0004.

In the NPRM, the FAA proposed to require a one-time check for previously accomplished repairs of the window pane and adjacent fuselage panel, and applicable corrective actions, as specified in EASA AD 2022-0004. The FAA is issuing this AD to address the unsafe condition on these products.

You may examine the MCAI in the AD docket at regulations.gov under Docket No. FAA-2022-0879.

Discussion of Final Airworthiness Directive

Comments

The FAA received a comment from the Air Line Pilots Association (ALPA), who supported the NPRM without change.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Related Service Information Under 1 CFR Part 51

EASA AD 2022-0004 specifies procedures for a one-time check for previously accomplished repairs of the window pane and adjacent fuselage panel, and applicable corrective actions. If no repair is identified, the corrective actions are accomplishing repetitive ultrasonic inspections of the window frame, and detailed inspections of the adjacent fuselage panel for cracking, and repair of any cracking. If any repair is identified, the corrective action is obtaining and accomplishing further instructions.

This material is reasonably available because the interested parties have access to it through their normal course of business or by the means identified in the ADDRESSES section.

Costs of Compliance

The FAA estimates that this AD affects 1 airplane of U.S. registry. The FAA estimates the following costs to comply with this AD:

Estimated Costs for Required Actions
Labor cost | Parts cost | Cost per product | Cost on U.S. operators
1 work-hour × $85 per hour = $85 | $0 | $85 | $85

The FAA estimates the following costs to do any necessary on-condition inspections based on the results of any required actions. The FAA has no way of determining the number of aircraft that might need these on-condition inspections:

Estimated Costs of On-Condition Actions
Labor cost | Parts cost | Cost per product
3 work-hours × $85 per hour = $255 | $0 | $255

The FAA has received no definitive data on which to base the cost estimates for the on-condition repairs or additional instructions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-20-08 Airbus SAS: Amendment 39-22192; Docket No. FAA-2022-0879; Project Identifier MCAI-2022-00039-T.

(a) Effective Date

This airworthiness directive (AD) is effective November 25, 2022.

(b) Affected ADs

This AD affects AD 2000-10-01, Amendment 39-11725 (65 FR 33441, May 24, 2000) (AD 2000-10-01).

(c) Applicability

This AD applies to all Airbus SAS Model A300 B2K-3C, B2-203, B4-2C, and B4-203 airplanes, certificated in any category.

(d) Subject

Air Transport Association (ATA) of America Code 53, Fuselage.

(e) Unsafe Condition

This AD was prompted by reports of cracking of the flight compartment aft window frame and adjacent fuselage skin. The FAA is issuing this AD to address cracking of the wings and fuselage. The unsafe condition, if not addressed, could result in reduced structural integrity of the airplane.

(f) Compliance

Comply with this AD within the compliance times specified, unless already done.

(g) Requirements

Except as specified in paragraph (h) of this AD: Comply with all required actions and compliance times specified in, and in accordance with, European Union Aviation Safety Agency (EASA) AD 2022-0004, dated January 11, 2022 (EASA AD 2022-0004).

(h) Exceptions to EASA AD 2022-0004

(1) Where EASA AD 2022-0004 refers to its effective date, this AD requires using the effective date of this AD.

(2) Where paragraph (4) of EASA AD 2022-0004 specifies to “accomplish those instructions accordingly” if any crack is detected, for this AD if any crack is detected, the crack must be repaired before further flight using a method approved by the Manager, Large Aircraft Section, International Validation Branch, FAA; or EASA; or Airbus SAS's EASA Design Organization Approval (DOA). If approved by the DOA, the approval must include the DOA-authorized signature.

(3) Where paragraph (6) of EASA AD 2022-0004 specifies terminating action, replace the text “the requirements of paragraph 1.8 of DGAC France AD 1990-222-116(B) R5 are no longer valid,” with “the inspections of the rear lower corner of the flight compartment aft window at fuselage station (STA) 972/frame (FR) 10, as required by paragraphs (a)(8), (d), and (e) of AD 2000-10-01, are terminated.”

(4) The “Remarks” section of EASA AD 2022-0004 does not apply to this AD.

(i) No Reporting Requirement

Although the service information referenced in EASA AD 2022-0004 specifies to submit certain information to the manufacturer, this AD does not include that requirement.

(j) Additional AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, Large Aircraft Section, International Validation Branch, FAA; or EASA; or Airbus SAS's EASA DOA. If approved by the DOA, the approval must include the DOA-authorized signature.

(k) Additional Information

For more information about this AD, contact Dan Rodina, Aerospace Engineer, Large Aircraft Section, FAA, International Validation Branch, 2200 South 216th St., Des Moines, WA 98198; telephone 206-231-3225; email dan.rodina@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2022-0004, dated January 11, 2022.

(ii) [Reserved].

(3) For EASA AD 2022-0004, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on September 16, 2022.
Christina Underwood,
Acting Director, Compliance & Airworthiness Division, Aircraft Certification Service.

[FR Doc. 2022-22330 Filed 10-20-22; 8:45 am]

BILLING CODE 4910-13-P